DEPARTMENT OF TRANSPORTATION

Federal Aviation Administration

14 CFR Part 71

[Docket No. FAA-2008-1253; Airspace Docket No. 08-ANE-103]

Establishment of Class E Airspace; Nantucket, MA

AGENCY: Federal Aviation Administration (FAA), DOT.

ACTION: Final rule.

SUMMARY: This action establishes Class E Airspace at Nantucket Memorial Airport, Nantucket, MA, by establishing Class E Surface airspace designated as an extension to Class D airspace. This action will encompass the new Standard Instrument Approach Procedures (SIAPs) and enhance the safety and management of Instrument Flight Rules (IFR) around the Nantucket Memorial Airport, MA.

DATES: Effective 0901 UTC, February 11, 2010. The Director of the Federal Register approves this incorporation by reference action under title 1, Code of Federal Regulations, part 51, subject to the annual revision of FAA Order 7400.9 and publication of conforming amendments.

FOR FURTHER INFORMATION CONTACT: Daryl Daniels, Airspace Specialist, Operations Support Group, Eastern Service Center, Air Traffic Organization, Federal Aviation Administration, P.O. Box 20636, Atlanta, Georgia 30320; telephone (404) 305-5581.

SUPPLEMENTARY INFORMATION:

History

On February 12, 2009, the FAA proposed to amend Title 14 Code of Federal Regulations (14 CFR) part 71 by establishing the Class E airspace extending upward from the surface at Nantucket Memorial Airport, Nantucket, MA (74 FR 7011). Interested parties are invited to participate in this rulemaking proceeding by submitting written comments on the proposal to the FAA. No comments objecting to the proposal were received.

Class E surface airspace designations as extensions to Class D (Class E4 airspace) are published in Paragraph 6004 of FAA Order 7400.9T, signed August 27, 2009, and effective September 15, 2009, which is incorporated by reference in 14 CFR 71.1. The Class E airspace designations listed in this document will be published subsequently in the Order.

The Rule

This amendment to Title 14, Code of Federal Regulations (14 CFR) part 71 establishes Class E airspace at Nantucket, MA. This action provides adequate Class E airspace (IFR) operations at Nantucket Memorial Airport. Area Navigation (RNAV) Global Positioning System (GPS) (SIAPs) have been developed for Nantucket Memorial Airport, and as a result, Class E surface airspace is required to the northeast of the airport, designated as an extension of the Class D surface area.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, would not have a significant economic impact on a substantial number of small entities under the criteria of the Regulatory Flexibility Act.

Lists of Subjects in 14 CFR Part 71

Airspace, Incorporation by reference, Navigation (air).

Adoption of the Amendment

In consideration of the foregoing, the Federal Aviation Administration amends 14 CFR Part 71 as follows:

PART 71—[AMENDED]

1. The authority citation for Part 71 will continue to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 14, 2009, is amended as follows:

Paragraph 6004 Class E Airspace Areas Designated as an Extension to a Class D Surface Area.

* * * * *

ANE MA E4 Nantucket, MA [NEW]

Nantucket Memorial Airport, MA

(Lat. 41°15′11″ N., long. 70°03′37″ W.)

That airspace extending upward from the surface of the Earth within 1.5 mile either side of the 045° bearing from the Nantucket Memorial Airport extending from the 4.2 mile radius to 12.6 miles Northeast of the airport. This Class E Surface airspace area is effective during the specific dates and times established in advance by a Notice to Airmen. The effective dates and times will thereafter be continuously published in the Airport/Facility Directory.

* * * * *

Issued in College Park, Georgia, on October 15, 2009.
Michael Vermuth,
Acting Manager, Operations Support Group, Eastern Service Center, Air Traffic Organization.

[FR Doc. E9-25500 Filed 10-27-09; 8:45 am]

BILLING CODE 4910-13-P